DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by April 3, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Fruit, Nuts, and Specialty Crops—Substantive Change.

OMB Control Number: 0535-0039.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The National Agricultural Statistics Service (NASS) is seeking approval for this substantive change request to the Fruit, Nuts, and Specialty Crops surveys information collection request. NASS seeks approval to make substantive changes to the Maple Syrup Survey. The Maple Syrup Survey questionnaire changes and resulting data series that will not add any additional burden for the Fruit, Nuts, and Specialty Crops Survey information collection request.

The changes to the questionnaire and data series are a consolidation of production and sales data that resulted from members of the Maple Industry approaching NASS with suggestions to improve the Maple data series and resulting questionnaire.

Need and Use of the Information: Data reported on fruit, nut, and specialty crops are used by NASS to estimate crop acreage, yield, production, utilization, price, and value in States with significant commercial production. These estimates are essential to farmers, processors, importers and exporters, shipping companies, cold storage facilities and handlers in making production and marketing decisions. Estimates from these inquiries are used by market order administrators in their determination of expected crop supplies under federal and State market orders.

Description of Respondents: Farms; Business or other for-profit.

Number of Respondents: 74,450.

Frequency of Responses: Reporting: On occasion; Annually; Semi-annually; Quarterly; Monthly; Weekly.

Total Burden Hours: 31,610.

Levi S. Harrell,
Departmental Information Collection Clearance Officer.

[FR Doc. 2023-04431 Filed 3-2-23; 8:45 am]

BILLING CODE 3410-20-P